DEPARTMENT OF TRANSPORTATION

Federal Aviation Administration

14 CFR Part 39

[Docket No. FAA-2021-0700; Project Identifier 2019-CE-017-AD; Amendment 39-21795; AD 2021-22-22]

RIN 2120-AA64

Airworthiness Directives; Costruzioni Aeronautiche Tecnam S.P.A. Airplanes

AGENCY: Federal Aviation Administration (FAA), DOT.

ACTION: Final rule.

SUMMARY: The FAA is adopting a new airworthiness directive (AD) for all Costruzioni Aeronautiche Tecnam S.P.A. Model P2006T airplanes. This AD was prompted by mandatory continuing airworthiness information (MCAI) originated by an aviation authority of another country to identify and correct an unsafe condition on an aviation product. The MCAI identifies the unsafe condition as a manufacturing defect in the nose landing gear (NLG) piston tube. This AD requires replacing the NLG piston tube. The FAA is issuing this AD to address the unsafe condition on these products.

DATES: This AD is effective December 3, 2021.

ADDRESSES: For service information identified in this final rule, contact Costruzioni Aeronautiche Tecnam S.P.A, Via S. D'acquisto 62, 80042 Boscotrecase (NA), Italy; phone: +39 0823 620134; fax: +39 0823 622899; email: airworthiness@tecnam.com; website: https://www.tecnam.com/us/support/. You may view this service information at the FAA, Airworthiness Products Section, Operational Safety Branch, 901 Locust, Kansas City, MO 64106. For information on the availability of this material at the FAA, call (816) 329-4148. It is also available at https://www.regulations.gov by searching for and locating Docket No. FAA-2021-0700.

Examining the AD Docket

You may examine the AD docket at https://www.regulations.gov by searching for and locating Docket No. FAA-2021-0700; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, General Aviation & Rotorcraft Section, International Validation Branch, FAA, 901 Locust, Room 301, Kansas City, MO 64106; phone: (816) 329-4165; fax: (816) 329-4090; email: jim.rutherford@faa.gov.

SUPPLEMENTARY INFORMATION:

Background

The FAA issued a notice of proposed rulemaking (NPRM) to amend 14 CFR part 39 by adding an AD that would apply to all Costruzioni Aeronautiche Tecnam S.P.A. Model P2006T airplanes. The NPRM published in the Federal Register on August 25, 2021 (86 FR 47422). The NPRM was prompted by MCAI originated by the European Union Aviation Safety Agency (EASA), which is the Technical Agent for the Member States of the European Union. EASA issued AD 2019-0043, dated March 6, 2019 (referred to after this as “the MCAI”), to correct an unsafe condition for Costruzioni Aeronautiche Tecnam S.P.A. Model P2006T airplanes. The MCAI states:

Failures of NLG piston tubes P/N 26-8-1408-1 were reported during ground operations. Subsequent investigation determined a deficiency in NLG piston tube manufacturing process. It was also determined that only a specific batch is affected by this defect.

This condition, if not corrected, could lead to failure of the NLG, possibly resulting in loss of control on the ground, during or after landing, with consequent damage to the aeroplane and injury to occupants.

To address this potential unsafe condition, TECNAM issued the [service bulletin] SB to provide instructions for the replacement of each affected part with a part that was manufactured by an improved process.

For the reasons described above, this [EASA] AD requires removal from service of the affected parts.

You may examine the MCAI in the AD docket at https://www.regulations.gov by searching for and locating Docket No. FAA-2021-0700.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI and service information referenced above. The FAA determined that air safety requires adopting this AD as proposed. Accordingly, the FAA is issuing this AD to address the unsafe condition on these products. This AD is adopted as proposed in the NPRM.

Related Service Information

Costruzioni Aeronautiche Tecnam S.P.A. Service Bulletin No. SB 288-CS-Ed 1, Revision 1, dated December 22, 2017, is related to this AD and provides information about installing nose landing gear (NLG) piston tube kit number SB 288-1.

Costs of Compliance

The FAA estimates that this AD affects 59 airplanes of U.S. registry. The FAA also estimates it will take about 4 work-hours per airplane to comply with the replacement required by this AD and required parts would cost about $1,200 per airplane. The average labor rate is $85 per work-hour.

Based on these figures, the FAA estimates the cost of this AD on U.S. operators to be $90,860 or $1,540 per airplane.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government. For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-22 Costruzioni Aeronautiche Tecnam S.P.A.: Amendment 39-21795; Docket No. FAA-2021-0700; Project Identifier 2019-CE-017-AD.

(a) Effective Date

This airworthiness directive (AD) is effective December 3, 2021.

(b) Affected ADs

None.

(c) Applicability

This AD applies to Costruzioni Aeronautiche Tecnam S.P.A. Model P2006T airplanes, all serial numbers, certificated in any category.

(d) Subject

Joint Aircraft System Component (JASC) Code 3220, Nose/Tail Landing Gear.

(e) Unsafe Condition

This AD was prompted by mandatory continuing airworthiness information (MCAI) originated by an aviation authority of another country to identify and address an unsafe condition on an aviation product. The MCAI describes the unsafe condition as a manufacturing defect in the nose landing gear (NLG) piston tube. The unsafe condition, if not addressed, could result in failure of the NLG upon or after landing.

(f) Compliance

Comply with this AD within the compliance times specified, unless already done.

(g) Required Actions

(1) For airplanes with an NLG piston tube part number (P/N) 26-8-1408-1 installed and not marked “rev. F00”: Within 50 hours time-in-service after the effective date of this AD or within 2 months after the effective date of this AD, whichever occurs first, replace any P/N 26-8-1408-1 NLG piston tube with an improved part by installing NLG piston tube kit number SB 288-1.

(2) As of the effective date of this AD, do not install an NLG piston tube P/N 26-8-1408-1 on any airplane unless it is marked “rev. F00.”

(h) Alternative Methods of Compliance (AMOCs)

(1) The Manager, International Validation Branch, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD or email: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, General Aviation & Rotorcraft Section, International Validation Branch, FAA, 901 Locust, Room 301, Kansas City, MO 64106; phone: (816) 329-4165; fax: (816) 329-4090; email: jim.rutherford@faa.gov.

(2) Refer to European Union Aviation Safety Agency (EASA) AD 2019-0043, dated March 6, 2019, for more information. You may examine the EASA AD in the AD docket at https://www.regulations.gov by searching for and locating Docket No. FAA-2021-0700.

(3) For service information identified in this AD, contact Costruzioni Aeronautiche Tecnam S.P.A, Via S. D'acquisto 62, 80042 Boscotrecase (NA), Italy; phone: +39 0823 620134; fax: +39 0823 622899; email: airworthiness@tecnam.com; website: https://www.tecnam.com/us/support/. You may review this referenced service information at the FAA, Airworthiness Products Section, Operational Safety Branch, 901 Locust, Kansas City, MO 64106. For information on the availability of this material at the FAA, call (816) 329-4148.

(k) Material Incorporated by Reference

None.

Issued on October 22, 2021.
Lance T. Gant,
Director, Compliance & Airworthiness Division, Aircraft Certification Service.

[FR Doc. 2021-23516 Filed 10-28-21; 8:45 am]

BILLING CODE 4910-13-P